DEPARTMENT OF THE INTERIOR

Bureau of Land Management

[UT-070-1610-DP-011J]

Notice of Availability of the Price Field Office Supplemental Draft Resource Management Plan and Environmental Impact Statement for Non-Wilderness Study Area (WSA) Lands with Wilderness Characteristics

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared the Price Field Office Supplemental Draft Resource Management Plan and Environmental Impact Statement (Supplemental DRMP/EIS) to augment the analysis of managing non-Wilderness Study Area (WSA) lands with wilderness characteristics. This Notice announces the availability of the document and the beginning of a 90-day comment period.

DATES: To ensure that public comments will be considered, the BLM must receive written comments on the Supplemental DRMP/EIS within 90 days following the date the Environmental Protection Agency publishes the Notice of Availability in the Federal Register.

ADDRESSES: Comments may be submitted by any of the following methods:

• Mail: Bureau of Land Management, Price Field Office, 125 South 600 West, Price, Utah 84501.

• E-mail: UT_Pr_Comments@blm.gov.

• Fax: (435) 636-3657.

FOR FURTHER INFORMATION CONTACT: Floyd Johnson, Assistant Field Manager, Bureau of Land Management, Price Field Office, 125 South 600 West, Price, Utah 84501; telephone (435) 636-3600; e-mail: floyd_johnson@blm.gov. Or, the public may go to http://www.blm.gov/rmp/ut/price for additional information.

SUPPLEMENTARY INFORMATION: The Price Field Office planning area encompasses public lands managed by the BLM in Carbon and Emery Counties, Utah. This includes approximately 2.5 million acres of BLM-administered surface lands and 2.8 million acres of federal mineral estate underlying federal, State, and private lands. The Price Field Office Draft Resource Management Plan and Environmental Impact Statement (DRMP/EIS), prepared to guide management of these lands, was released for public review on July 16, 2004. (The DRMP/EIS is available on the internet at: http://www.blm.gov/rmp/ut/price/).

There are multiple areas (totaling 933,440 acres) outside of existing WSAs, which have wilderness characteristics. The BLM's land use planning handbook (Manual Handbook H-1601-1) provides guidance for consideration of non-WSA lands with wilderness characteristics in land use planning. The handbook provides that the BLM may consider these lands and resource values in planning, and prescribes measures to manage for their wilderness characteristics. These characteristics include the appearance of naturalness, outstanding opportunities for solitude, and outstanding opportunities for primitive and unconfined recreation.

The DRMP/EIS analyzed five alternatives for management of public lands in the Price Field Office, and disclosed the impacts of implementing each alternative. The Price Field Office Supplemental DRMP/EIS will prescribe specific actions to manage for the wilderness characteristics of non-WSA lands with wilderness characteristics in a new alternative to ensure that: (1) Adequate consideration is given to wilderness characteristics; (2) an adequate range of alternatives is considered for these lands; and (3) an adequate analysis is prepared from which to base future land use decisions. Comments, including names and addresses of respondents, will be available for public review at the Price Field Office. Before including your address, phone number, e-mail address, or other personal identifying information in your comment, you should be aware that your entire comment—including your personal identifying information—may be made publicly available at any time. While you can ask us in your comment to withhold your personal identifying information from public review, we cannot guarantee that we will be able to do so.

Copies of the Supplemental DRMP/EIS are available in the Price Field Office and on the Internet at the address provided above.

Jeff Rawson,
Associate State Director.

[FR Doc. E7-18098 Filed 9-13-07; 8:45 am]

BILLING CODE 4310-DP-P